DEPARTMENT OF TRANSPORTATION

Federal Highway Administration

Notice To Extend Comment Period for An Environmental Impact Statement: Texas and Howell Counties, MO

AGENCY: Federal Highway Administration (FHWA), DOT.

ACTION: Extend comment period for an environmental impact statement.

SUMMARY: The FHWA is issuing this notice to advise the public that we are extending the comment period for an environmental impact statement (EIS) for improvements on Route 17 in Texas and Howell Counties, Missouri.

FOR FURTHER INFORMATION CONTACT: Donald L. Neumann, Programs Engineer, FHWA Division Office, 209 Adams Street, Jefferson City, MO 65101; Telephone: (573) 636-7104 or Mr. Kevin Keith, Chief Engineer, Missouri Department of Transportation, PO Box 270, Jefferson City, MO 65102.

SUPPLEMENTARY INFORMATION: The FHWA, in cooperation with the Missouri Department of Transportation (MoDOT), prepared a draft EIS for a project that has been proposed to improve the transportation system in Texas and Howell Counties, Missouri. The Notice of Availability for the Route 17 draft EIS was published in the Federal Register on December 27, 2002. The end of the official comment period was to be February 18, 2003. However, the comment period has been extended to April 15, 2003. Please note the new Comment Period end date, April 14, 2003. Comments or questions should be directed to the FHWA or MoDOT at the addresses provided above.

(Catalog of Federal Domestic Assistance Program Number 20.205, Highway Planning and Construction. The regulations implementing Executive Order 12372 regarding intergovernmental consultation on Federal programs and activities apply to this program.)
Issued on: March 5, 2003.
Donald L. Neuman,
Programs Engineer, Jefferson City.

[FR Doc. 03-6313 Filed 3-14-03; 8:45 am]

BILLING CODE 4910-22-M